DEPARTMENT OF THE TREASURY

Internal Revenue Service

26 CFR Part 1

[REG-136491-09]

RIN 1545-BI91

Utility Allowances Submetering; Hearing Cancellation

AGENCY: Internal Revenue Service (IRS), Treasury.

ACTION: Cancellation of notice of public hearing on proposed rulemaking.

SUMMARY: This document cancels a public hearing on proposed regulations under section 42 of the Internal Revenue Code; relating to the utility allowance regulations.

DATES: The public hearing originally scheduled for November 27, 2012 at 10 a.m. is cancelled.

FOR FURTHER INFORMATION CONTACT: Oluwafunmilayo Taylor of the Publications and Regulations Branch, Legal Processing Division, Associate Chief Counsel (Procedure and Administration) at (202) 622-7180 (not a toll-free number).

SUPPLEMENTARY INFORMATION: A notice of proposed rulemaking and a notice of public hearing that appeared in the Federal Register on August 7, 2012 (77 FR 46987) announced that a public hearing was scheduled for November 27, 2012, at 10 a.m. in the IRS Auditorium, Internal Revenue Building, 1111 Constitution Avenue NW., Washington, DC. The subject of the public hearing is under section 42 of the Internal Revenue Code.

The public comment period for these regulations expired on October 9, 2012. The notice of proposed rulemaking and notice of public hearing instructed those interested in testifying at the public hearing to submit a request to speak and an outline of the topics to be addressed. As of Friday, November 2, 2012, no one has requested to speak. Therefore, the public hearing scheduled for November 27, 2012, is cancelled.

LaNita VanDyke,
Chief, Publications and Regulations Branch, Legal Processing Division, Associate Chief Counsel, Procedure and Administration.

[FR Doc. 2012-27333 Filed 11-7-12; 8:45 am]

BILLING CODE 4830-01-P